DEPARTMENT OF THE INTERIOR

National Park Service

[NPS-WASO-NRNHL-DTS#33187; PPWOCRADI0, PCU00RP14.R50000]

National Register of Historic Places; Notification of Pending Nominations and Related Actions

AGENCY: National Park Service, Interior.

ACTION: Notice.

SUMMARY: The National Park Service is soliciting electronic comments on the significance of properties nominated before December 18, 2021, for listing or related actions in the National Register of Historic Places.

DATES: Comments should be submitted electronically by January 13, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION:

The properties listed in this notice are being considered for listing or related actions in the National Register of Historic Places. Nominations for their consideration were received by the National Park Service before December 18, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

CALIFORNIA

Sacramento County

Murer House and Gardens, 1125 Joe Murer Ct., Folsom, SG100007367

CONNECTICUT

Hartford County

Hartford Special Machinery Company Complex, 287 and 296 Homestead Ave., Hartford, SG100007374

Litchfield County

Harry O. Erikson Pavilion Hall, 17 East Shore Rd., Washington, SG100007375

FLORIDA

Lake County

Okahumpka Rosenwald School (Florida's Historic Black Public Schools MPS), 27908 Virgil Hawkins Cir., Okahumpka, MP100007365

Polk County

Perry House (Sarasota School of Architecture MPS), 2208 Woodbine Ave., Lakeland, MP100007366

GEORGIA

Chatham County

Savannah Water Works Pump House, 1204 West Gwinnett St., Savannah, SG100007368

KENTUCKY

Campbell County

Dayton City Hall, 635 Dayton Ave., Dayton, SG100007373

MINNESOTA

Hennepin County

Hopkins Commercial Historic District, Mainstreet between 8th and 11th Aves. North, Hopkins, SG100007369

NEW YORK

Chautauqua County

Lily Dale Assembly Historic District, South St., Cottage Row, Lake Front Dr., East, 4th, 3rd, 2nd, 1st, North, Library, Buffalo, Marion, and Erie Sts., Cleveland Ave., Ridgeway Cir., The Boulevard, Pomfet, SG100007380

Lily Dale Assembly Historic District, South St., Cottage Row, Lake Front Dr., East, 4th, 3rd, 2nd, 1st, North, Library, Buffalo, Marion, and Erie Sts., Cleveland Ave., Ridgeway Cir., The Boulevard, Cassadaga, SG100007380

Monroe County

Ellwanger and Barry Building, 39-41 State St., Rochester, SG100007376

Nassau County

Jackson, John II, House, 1419 Wantagh Ave., Wantagh, SG100007370

Queens County

Ridgewood Fresh Pond Road-Myrtle Avenue Historic District, Generally Fresh Pond Rd. and Myrtle Ave., Queens, SG100007371

Rockland County

West, J. Garner, House, 168 Filors Ln., Stony Point, SG100007379

Schenectady County

Schenectady Public Market and Scale House, Bounded by Clinton St., Van Guysling Ave., Broadway, and Hamilton St., Schenectady, SG100007377

Schenectady Savings Bank, 500 State St., Schenectady, SG100007378

Suffolk County

de Kooning, Elaine, House and Studio, 55 Alewive Brook Rd., East Hampton, SG100007372

OREGON

Deschutes County

Swanson, Norman and Frances, House (Residential Resources of Redmond, Oregon MPS), 327 NW Canyon Dr., Redmond, MP100007384

TEXAS

El Paso County

Patterson Apartments, 1217 North Mesa St., El Paso, SG100007381

Additional documentation has been received for the following resource:

OREGON

Multnomah County

Zimmerman, Jacob, House, 17111 NE Sandy Blvd., Gresham, AD86001226

Authority: Section 60.13 of 36 CFR part 60.

Dated: December 21, 2021.
Sherry A. Frear,
Chief, National Register of Historic Places/National Historic Landmarks Program.

[FR Doc. 2021-28274 Filed 12-28-21; 8:45 am]

BILLING CODE 4312-52-P